DEPARTMENT OF COMMERCE

National Institute of Standards and Technology

National Fire Codes: Request for Comments on NFPA Technical Committee Reports

AGENCY: National Institute of Standards and Technology, Commerce.

ACTION: Notice.

SUMMARY: Since 1896, the National Fire Protection Association (NFPA) has accomplished its mission by advocating scientifically based consensus codes and standards, research, and education for safety related issues. NFPA's National Fire Codes®, which holds over 270 documents, are administered by more than 225 Technical Committees comprised of approximately 7,000 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and that takes approximately two years to complete. Each Revision Cycle proceeds according to a published schedule that includes final dates for all major events in the process. The process contains five basic steps that are followed both for developing new documents as well as revising existing documents. These steps are: Calling for Proposals; Publishing the Proposals in the Report on Proposals (ROP); Calling for Comments on the Committee's disposition of the Proposals and these Comments are published in the Report on Comments (ROC); having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline of April 3, 2009. Certified motions will be posted by May 1, 2009. Documents that receive notice of proper Amending Motions (Certified Amending Motions) will be presented for action at the Annual 2009 Association Technical Meeting. Documents that receive no motions will be forwarded directly to the Standards Council for action on issuance at its August 6, 2009 meeting.

For more information on these new rules and for up-to-date information on schedules and deadlines for processing NFPA Documents, check the NFPA Web site at www.nfpa.org or contact NFPA Codes and Standards Administration.

The purpose of this notice is to request comments on the technical reports that will be presented at NFPA's 2009 Annual Revision Cycle. The publication of this notice by the National Institute of Standards and Technology (NIST) on behalf of NFPA is being undertaken as a public service; NIST does not necessarily endorse, approve, or recommend any of the standards referenced in the notice.

DATES: Twenty-seven reports are published in the 2009 Annual Cycle Report on Proposals and will be available on June 20, 2008. Comments received on or before August 29, 2008, will be considered by the respective NFPA Committees before final action is taken on the proposals.

ADDRESSES: The 2009 Annual Revision Cycle Report on Proposals is available and downloadable from NFPA's Web site—www/nfpa.org or by requesting a copy from the NFPA, Fulfillment Center, 11 Tracy Drive, Avon, Massachusetts 02322. Comments on the report should be submitted to Milosh Puchovsky, Secretary, Standards Council, NFPA, 1 Batterymarch Park, P.O. Box 9101, Quincy, Massachusetts 02269-9101.

FOR FURTHER INFORMATION CONTACT: Milosh Puchovsky, Secretary, Standards Council, NFPA, 1 Batterymarch Park, Quincy, Massachusetts 02269-9101, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

Request for Comments

Interested persons may participate in these revisions by submitting written data, views, or arguments to Milosh Puchovsky, Secretary, Standards Council, NFPA, 1 Batterymarch Park, Quincy, Massachusetts 02269-9101. Commenters may use the forms provided for comments in the Reports on Proposals. Each person submitting a comment should include his or her name and address, identify the notice, and give reasons for any recommendations. Comments received on or before August 29, 2008, for the 2009 Annual Cycle Report on Proposals will be considered by the NFPA before final action is taken on the proposals.

Copies of all written comments received and the disposition of those comments by the NFPA committees will be published as the 2009 Annual Cycle Report on Comments by February 20, 2009. A copy of the Report on Comments will be sent automatically to each commenter. Reports of the Technical Committees on documents that do not receive a Notice of Intent to Make a Motion will automatically be forwarded to the Standards Council for action on issuance. Action on the reports of the Technical Committees on documents that do receive a Notice of Intent to Make a Motion will be taken at the Annual Meeting, June 7-11, 2009, in Chicago, Illinois, by NFPA members.

2009 Annual Meeting; Report on Proposals
[P = Partial revision; W = Withdrawal; R = Reconfirmation; N = New; C = Complete Revision]
NFPA 13 | Standard for the Installation of Sprinkler Systems | P
NFPA 13D | Standard for the Installation of Sprinkler Systems in One- and Two-Family Dwellings and Manufactured Homes | P
NFPA 13R | Standard for the Installation of Sprinkler Systems in Residential Occupancies up to and Including Four Stories in Height | P
NFPA 20 | Standard for the Installation of Stationary Pumps for Fire Protection | P
NFPA 24 | Standard for the Installation of Private Fire Service Mains and Their Appurtenances | P
NFPA 72 | National Fire Alarm Code® | P
NFPA 80 | Standard for Fire Doors and Other Opening Protectives | P
NFPA 99 | Standard for Health Care Facilities | P
NFPA 99B | Standard for Hypobaric Facilities | P
NFPA 99C | Standard on Gas and Vacuum Systems | P
NFPA 101A | Guide on Alternative Approaches to Life Safety | P
NFPA 105 | Standard for the Installation of Smoke Door Assemblies and Other Opening Protectives | P
NFPA 110 | Standard for Emergency and Standby Power Systems | P
NFPA 111 | Standard on Stored Electrical Energy Emergency and Standby Power Systems | P
NFPA 130 | Standard for Fixed Guideway Transit and Passenger Rail Systems | P
NFPA 291 | Recommended Practice for Fire Flow Testing and Marking of Hydrants | P
NFPA 302 | Fire Protection Standard for Pleasure and Commercial Motor Craft | P
NFPA 400 | Hazardous Materials Code | N
NFPA 430 | Code for the Storage of Liquid and Solid Oxidizers | W
NFPA 432 | Code for the Storage of Organic Peroxide Formulations | W
NFPA 434 | Code for the Storage of Pesticides | W
NFPA 490 | Code for the Storage of Ammonium Nitrate | W
NFPA 1123 | Code for Fireworks Display | P
NFPA 1124 | Code for the Manufacture, Transportation, Storage, and Retail Sales of Fireworks and Pyrotechnic Articles | P
NFPA 1221 | Standard for the Installation, Maintenance, and Use of Emergency Services Communications Systems | P
NFPA 1710 | Standard for the Organization and Deployment of Fire Suppression Operations, Emergency Medical Operations, and Special Operations to the Public by Career Fire Departments | C
NFPA 1720 | Standard for the Organization and Deployment of Fire Suppression Operations, Emergency Medical Operations and Special Operations to the Public by Volunteer Fire Departments

Dated: March 31, 2008.
Richard F. Kayser,
Acting Deputy Director.

[FR Doc. E8-7056 Filed 4-3-08; 8:45 am]

BILLING CODE 3510-13-P